DEPARTMENT OF HEALTH AND HUMAN SERVICES

National Institutes of Health

Proposed Collection; 60-Day Comment Request; Generic Clearance for the Collection of Qualitative Feedback on Agency Service Delivery National Institute of Allergy and Infectious Diseases (NIAID)

AGENCY: National Institutes of Health, HHS.

ACTION: Notice.

SUMMARY: In compliance with the requirement of the Paperwork Reduction Act of 1995 to provide opportunity for public comment on proposed data collection projects, the National Institute of Allergy and Infectious Diseases (NIAID) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Ms. Brandie Taylor, Supervisory Program Analyst, Office of Strategic Planning, Initiative Development and Analysis, 5601 Fishers Lane, Rockville, Maryland 20892 or call non-toll-free number (240) 669-0296 or Email your request, including your address to: taylorbr@niaid.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Generic Clearance for the Collection of Qualitative Feedback on Agency Service Delivery (NIAID), 0925-0668, Expiration Date 4/30/2022, EXTENSION, National Institute of Allergy and Infectious Diseases (NIAID).

Need and Use of Information Collection: There are no changes being requested for this submission. The proposed information collection activity provides a means to garner qualitative customer and stakeholder feedback in an efficient, timely manner, in accordance with the Administration's commitment to improving service delivery. By qualitative feedback we mean information that provides useful insights on perceptions and opinions but are not statistical surveys that yield quantitative results that can be generalized to the population of study. This feedback will provide information about the NIAID's customer or stakeholder perceptions, experiences and expectations, provide an early warning of issues with service, or focus attention on areas where communication, training or changes in operations might improve delivery of products or services. These collections will allow for ongoing, collaborative and actionable communications between the NIAID and its customers and stakeholders. It will also allow feedback to contribute directly to the improvement of program management.

OMB approval is requested for 3 years. There are no costs to respondents other than their time. The total estimated annualized burden hours are 2511.

Estimated Annualized Burden Hours
Type of collection | Number of respondents | Annual frequency per response | Hours per response | Total hours
Customer satisfaction surveys | 4000 | 1 | 30/60 | 2000
In-Depth Interviews (IDIs) or Small Discussion Groups | 50 | 1 | 90/60 | 75
Individual Brief Interviews | 50 | 1 | 15/60 | 13
Focus Groups | 30 | 1 | 2 | 60
Pilot testing surveys | 25 | 1 | 30/60 | 13
Conferences and Training Pre- and Post-surveys | 500 | 1 | 30/60 | 250
Website or Software Usability Tests | 50 | 1 | 2 | 100
Total |  | 4705 |  | 2511

Dated: January 25, 2022.
Brandie K. Taylor Bumgardner,
Project Clearance Liaison, National Institute of Allergy and Infectious Diseases, National Institutes of Health.

[FR Doc. 2022-02847 Filed 2-9-22; 8:45 am]

BILLING CODE 4140-01-P